DEPARTMENT OF ENERGY

Federal Energy Regulatory Commission

[Docket No. PF17-3-000]

Midship Pipeline Company, LLC; Supplemental Notice of Intent To Prepare an Environmental Impact Statement for the Planned Midcontinent Supply Header Interstate Pipeline Project and Request for Comments on Environmental Issues Related to New Pipeline Lateral and Booster Station

As previously noticed on January 27, 2017, and supplemented herein, the staff of the Federal Energy Regulatory Commission (FERC or Commission) will prepare an environmental impact statement (EIS) that will discuss the environmental impacts of the Midcontinent Supply Header Interstate Pipeline Project (MIDSHIP Project) involving construction and operation of facilities by Midship Pipeline Company, LLC (Midship Pipeline) ¹ in Kingfisher, Canadian, Grady, Garvin, Stephens, Carter, Johnston, and Bryan Counties, Oklahoma and leased capacity on existing pipeline infrastructure in Oklahoma, Texas, and Louisiana. The Commission will use this EIS in its decision-making process to determine whether the project is in the public convenience and necessity.

¹ The sponsor of the Midcontinent Supply Header Interstate Pipeline Project, previously identified as Cheniere Midstream Holdings, Inc., has changed its name to Midship Pipeline Company, LLC.

The Commission previously solicited public input on the MIDSHIP Project in January 2017. With this Supplemental Notice of Intent (NOI) we² are specifically seeking comments on additional facilities planned by Midship Pipeline and recently identified as part of the MIDSHIP Project, specifically the Velma Lateral and Sholem Booster Station. Your comments should focus on the potential environmental effects, reasonable alternatives, and measures to avoid or lessen environmental impacts from these facilities. Your input will help the Commission staff determine what issues we need to evaluate in the EIS. To ensure that your comments are timely and properly recorded, please send your comments so that the Commission receives them in Washington, DC on or before April 21, 2017. If you have already submitted comments for the MIDSHIP Project prior to this Supplemental NOI, you do not need to resubmit your comments.

² “We,” “us,” and “our” refer to the environmental staff of the FERC's Office of Energy Projects.

This notice is being sent to the Commission's current environmental mailing list for this project, including the newly affected landowners along the planned Velma Lateral and Sholem Booster Station. State and local government representatives should notify their constituents of this planned project and encourage them to comment on their areas of concern.

If you are a newly affected landowner receiving this notice, a pipeline company representative may have already contacted you or may contact you soon about the acquisition of an easement to construct, operate, and maintain the planned facilities. The company would seek to negotiate a mutually acceptable agreement. However, if the Commission approves the project, that approval conveys with it the right of eminent domain. Therefore, if the easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically asked questions, including the use of eminent domain and how to participate in the Commission's proceedings.

Summary of the Velma Lateral and Sholem Booster Station

The Velma Lateral would consist of 13.3 miles of 16-inch-diameter pipeline and associated appurtenances in Oklahoma. It would begin at a gas supply facility near Velma in Stephens County, continue northeast for approximately 6.5 miles, and connect with a gas supply facility near Sholem, Oklahoma. Midship Pipeline would construct a new 3,750 horsepower compressor station, referred to as the Sholem Booster Station, adjacent to the existing gas facility. From the compressor station, the Velma Lateral would continue in a northeast direction through portions of Stephens, Carter, and Garvin Counties for a total of 6.8 miles, where it would terminate at the Tatums Compressor Station near mainline Milepost 99.1. Midship Pipeline would construct a receipt meter station at the tie-in within the Tatums Compressor Station. An overview map of the planned project, including the Velma Lateral and Sholem Booster Station, is provided in appendix 1. Construction of the Velma Lateral and Sholem Booster Station would disturb about 168.3 acres of land. After construction, Midship Pipeline would maintain about 82.2 acres for operation of these facilities; the remaining acreage would be restored and revert to former uses.

Public Participation

For your convenience, there are three methods you can use to submit your comments to the Commission. The Commission will provide equal consideration to all comments received, whether filed via mail or provided electronically. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF17-3-000) with your submission: Kimberly D. Bose, Secretary, Federal Energy Regulatory Commission, 888 First Street NE., Room 1A, Washington, DC 20426.

Please note this is not your only public input opportunity; please refer to the review process flow chart in appendix 2.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the scope of the issues with the Velma Lateral and Sholem Booster Station to address in the EIS. We will consider all filed comments during the preparation of the EIS.

In the EIS we will discuss impacts that could occur as a result of the construction and operation of the MIDSHIP Project under these general headings:

• Geology and soils;

• water resources and wetlands;

• vegetation, wildlife, and fisheries;

• endangered and threatened species;

• land use, outdoor recreation, and scenery;

• socioeconomics;

• cultural resources;

• air quality and noise;

• public safety; and

• cumulative impacts.

We will also evaluate possible alternatives to the planned project or portions of the project, and make recommendations on how to lessen or avoid impacts on the various resource areas.

Although no formal application has been filed for the MIDSHIP Project, we initiated our NEPA review of the project under the Commission's pre-filing process on November 9, 2016. The purpose of the pre-filing process is to encourage early involvement of interested stakeholders and to identify and resolve issues before FERC receives an application. As part of our pre-filing review, we have begun to contact some federal and state agencies to discuss their involvement in the scoping process and the preparation of the EIS. In addition, FERC representatives participated in the public open houses sponsored by Midship Pipeline in El Reno, Lindsay, Ardmore, and Durant, Oklahoma from December 12 through 15, 2016. On February 13, 14, 15, and 16, 2017, FERC held public scoping sessions in Durant, Ardmore, Elmore City, and El Reno, respectively, to solicit comments regarding the planned MIDSHIP Project.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2.

With this Supplemental NOI, we are asking agencies with jurisdiction by law and/or special expertise with respect to the environmental issues related to this project to formally cooperate with us in the preparation of the EIS.³ Agencies that would like to request cooperating agency status should follow the instructions for filing comments provided under the Public Participation section of this notice.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Offices (SHPO), and to solicit their views and those of other government agencies, interested Native American tribes, and the public on the project's potential effects on historic properties.⁴ We will define the project-specific Area of Potential Effects (APE) in consultation with the SHPOs as the project develops. On natural gas facility projects, the APE at a minimum encompasses all areas subject to ground disturbance (examples include construction right-of-way, contractor/pipe storage yards, compressor stations, and access roads). Our EIS for this project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities, the environmental information provided by Midship Pipeline, comments received at the project open houses, and scoping comments. This preliminary list of potential issues may change based on your comments and our analysis:

• Impacts on water wells;

• impacts on waterbodies and wetlands;

• impacts on threatened and endangered species;

• geological hazards;

• impacts on future development due to pipeline route on property;

• impacts on air quality;

• impacts on noise from planned compressor stations;

• public safety; and

• pipeline route alternatives.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, as well as anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (appendix 3).

Becoming an Intervenor

Once Midship Pipeline files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search,” and enter the docket number, excluding the last three digits (i.e., PF17-3). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, Midship Pipeline has established toll-free telephone numbers (888) 214-7275 for general inquiries or (800) 305-2466 for landowner inquiries) and an email support address (midship@cheniere.com) so that parties can contact them directly with questions about the project. You may also refer to Midship Pipeline's project Web site for additional information at http://www.cheniere.com/pipelines/midship/.

Dated: March 22, 2017.
Kimberly D. Bose,
Secretary.

[FR Doc. 2017-06068 Filed 3-27-17; 8:45 am]

BILLING CODE 6717-01-P